DEPARTMENT OF THE INTERIOR

Bureau of Land Management

[NV-050-1610-DQ]

Notice of Availability of the Proposed Nevada Test and Training Range Resource Management Plan and Final Environmental Impact Statement

AGENCY: Bureau of Land Management, Interior.

ACTION: Notice of availability.

SUMMARY: The Proposed Nevada Test and Training Range Resource Management Plan and Final Environmental Impact Statement (RMP/FEIS) is available to the public for a 30-day protest period. The Proposed Plan and associated FEIS were developed in accordance with the National Environmental Policy Act of 1969 and the Federal Land Policy and Management Act of 1976.

DATES: Written protests on the FEIS will be accepted if postmarked within 30 calendar days from the date that a Notice of Availability is published in the Federal Register by the Environmental Protection Agency. Instructions for filing protests are contained in the Final Environmental Impact Statement document cover sheet just inside the front cover, and are included below under Supplemental Information.

ADDRESSES: Copies of the Proposed RMP/FEIS may be obtained from the Las Vegas Field Office, 4701 N. Torrey Pines Drive, Las Vegas, NV 89130-2301. Public reading copies are available for review at the public libraries of Clark, Lincoln and Nye Counties, all government document repository libraries and at the following BLM locations: Office of External Affairs, Main Interior Building, Room 6214, 1849 C Street, NW., Washington, DC; Public Room, Nevada State Office, 1340 Financial Blvd., Reno, NV; and the Las Vegas Field Office at the above address.

FOR FURTHER INFORMATION CONTACT: Jeff Steinmetz, RMP Team Leader, at BLM's Las Vegas Field Office listed above or telephone (702) 515-5097.

SUPPLEMENTARY INFORMATION: The Environmental Protection Agency published the Notice of Availability of the Nevada Test and Training Range Resource Management Plan and Draft EIS in the Federal Register on September 21, 2001. The public comment period on the DEIS ended December 20, 2001. The agency preferred alternative, Alternative B, is the selected alternative for the Proposed Plan and FEIS. The preferred alternative represents a coordinated effort between Nellis, the Bureau of Land Management (BLM) and input from the public on a proposal that would limit conflicts on the military mission by dispersing animals evenly throughout a core area within the herd management area. In addition, the proposed plan provides for the needs of wildlife in the area and rangeland health improvement. The document contains a summary of the decisions and resulting impacts, an overview of the planning process and planning issues, the Proposed Plan, comment letters and responses and verbal comments received during public review of the Draft Plan, and responses to the substantive issues raised during the review.

The Proposed Plan may be protested by any person who participated in the planning process, and who has an interest which is or may be, adversely affected by the approval of the Proposed Plan. A protest may raise only those issues which were submitted for the record during the planning process (see 43 CFR 1610.5-2). The protest shall contain the following information:

• The name, mailing address, telephone number, and interest of the person filing the protest.

• A statement of the issue or issues being protested.

• A statement of the part or parts of the document being protested.

• A copy of all documents addressing the issue or issues previously submitted during the planning process by the protesting party, or an indication of the date the issue or issues were discussed for the record.

• A concise statement explaining precisely why the Bureau of Land Management, Nevada State Director's decision is wrong.

To be considered “timely” the protest must be postmarked no later than the last day of the 30-day protest period. Also, although not a requirement, it is recommended that the protest be sent by certified mail, return receipt requested. E-mail protests will not be accepted. Faxed protests will be considered as potential valid protests provided (1) that the signed faxed letter is received by the Washington Office protest coordinator by the closing date of the protest period and (2) that the protesting party also provides the original letter by either regular or overnight mail postmarked by the close of the protest period. Please direct faxed protests to “BLM Protest Coordinator” at 202-452-5112. Please direct the follow-up letter to the appropriate address provided below.

Upon resolution of any protests, an Approved Plan and Record of Decision will be issued. The approved Plan/Record of Decision will be mailed to all individuals who participated in this planning process and all other interested public upon their request. Mailing address for filing a protest:

Regular mail | Overnight mail
Director (210), Attn: Brenda Williams, P.O. Box 66538, Washington, DC 20035 | U.S. Department of the Interior, Director, Bureau of Land Management, Protest Coordinator (WO-210), 1620 “L” Street, NW., Rm 1075, Washington, DC 20036.

Dated: March 4, 2003.
Robert V. Abbey,
State Director, Nevada.

[FR Doc. 03-12913 Filed 5-22-03; 8:45 am]

BILLING CODE 4310-HC-P